DEPARTMENT OF ENERGY

Western Area Power Administration

Notice of Intent To Prepare an Environmental Impact Statement and To Conduct Scoping Meetings; and Notice of Floodplain and Wetlands Involvement; Colusa-Sutter 500-Kilovolt Transmission Line Project, Colusa and Sutter Counties, California (DOE/EIS-0514)

AGENCY: Western Area Power Administration, Department of Energy (DOE).

ACTION: Notice of Intent.

SUMMARY: Western Area Power Administration (Western) and the Sacramento Municipal Utility District (SMUD) are jointly proposing the new 500-kilovolt (kV) Colusa-Sutter (CoSu) Transmission Line Project (Project) to be located within Colusa and Sutter Counties, California. The Project would interconnect the California-Oregon Transmission Project (COTP) transmission system, near either Arbuckle or Maxwell, California, to the Central Valley Project (CVP) transmission system near Yuba City, California. This notice announces Western's decision to jointly prepare an environmental impact statement (EIS) under the National Environmental Policy Act (NEPA) in conjunction with SMUD's preparation of a California Environmental Quality Act (CEQA) environmental impact report (EIR). The joint EIS/EIR will examine the potential environmental effects of the CoSu Project.

The joint EIS/EIR will address Western's proposed action of constructing the CoSu Project as well as making any necessary modifications to Western facilities to accommodate the new line; and SMUD's proposed action of whether or not to fund the proposed Project.

This notice starts a 60-day public scoping period that will assist in the preparation of a Draft EIS/EIR. During the public scoping period, Western and SMUD are seeking public comments including issues, concerns, and opportunities that should be considered in the analysis of the proposed Project.

DATES: The scoping period begins with the publication of this notice and closes on February 16, 2016.

To provide the public an opportunity to review, discuss, and comment on the proposed Project, Western and SMUD will hold four public meetings during January 12-14, 2016. See Public Participation in SUPPLEMENTARY INFORMATION section for public scoping meeting dates and locations.

ADDRESSES: Written comments on the proposed scope of the Draft EIS/EIR for the CoSu Project may be mailed or emailed to: Mr. Andrew M. Montaño, Western Area Power Administration, Headquarters, P.O. Box 281213, Lakewood, CO 80228-8213, email: montano@wapa.gov. Comments on issues, potential impacts, or suggestions for additional alternatives may be provided at the public scoping meeting or submitted in writing to the address listed. To be considered in the Draft EIS/EIR, comments must be received prior to the close of the scoping period.

FOR FURTHER INFORMATION CONTACT: For further information and/or to have your name added to our mailing list, please contact Andrew M. Montaño, at (720) 962-7253 or at the address listed in the ADDRESSES section. For the most recent information and for announcements, please visit the Project Web site at: www.CoSuLine.com.

For general information on DOE's NEPA review procedures or status of a NEPA review, contact Ms. Carol M. Borgstrom, Director of NEPA Policy and Compliance, GC-54, U.S. Department of Energy, 1000 Independence Avenue SW., Washington, DC 20585; telephone (202) 586-4600 or (800) 472-2756; or email: askNEPA@hq.doe.gov.

For general information on the SMUD CEQA review procedures or status of the CEQA review, please contact Ms. Emily Bacchini, Environmental Management Specialist, Sacramento Municipal Utility District, 6201 S. Street, Mailstop H201, Sacramento, CA 95852-1830; telephone (916) 732-6334; email: emily.bacchini@smud.org.

SUPPLEMENTARY INFORMATION: Western is a Federal agency under the U.S. Department of Energy (DOE) that markets and transmits wholesale electrical power through an integrated 17,000-plus circuit mile, high-voltage transmission system across 15 central and western states.

Western, the lead Federal agency for the EIS, will coordinate with appropriate Federal, State and local agencies and potentially affected Native American tribes during the preparation of the EIS/EIR. Western will coordinate with SMUD in the preparation of the joint EIS/EIR. Agencies with legal jurisdiction or special expertise are invited to participate as cooperating agencies, as defined in 40 CFR 1501.6, in preparation of the EIS. Such agencies may make a request to Western to be a cooperating agency. Designated cooperating agencies have certain responsibilities to support the NEPA process, as specified in 40 CFR 1501.6(b).

SMUD is the primary distributor of electric power within an area of approximately 900 square miles in Sacramento County and a portion of Placer County, and serves over 624,000 electric customers. SMUD owns and operates an integrated electric system that includes transmission, distribution and generation facilities. SMUD is a member of the Transmission Agency of Northern California, which holds significant entitlements to obtain energy through the COTP. To use these rights, SMUD has long-term transmission service agreements with Western. SMUD's transmission system also contributes to and is affected by voltage stability, transmission system reliability, and security of the greater Sacramento-area transmission system. These imports allow higher demand levels to be reliably served at lower internal generation requirements, reducing carbon emissions from SMUD's natural gas generation facilities.

Project Description and Alternatives

SMUD submitted a transmission service request to Western under Western's Open Access Transmission Tariff for service between the COTP and SMUD's transmission system. Western did not have available transmission capacity to meet the service request on its existing facilities in the area; so SMUD proposed the construction of the CoSu Project. Western would build the Project as allowed by law pursuant to the Acts of Congress approved June 17, 1902 (32 Stat. 388); August 26, 1937 (50 Stat. 844, 850); August 4, 1939 (53 Stat. 1187); and August 4, 1977 (91 Stat. 565); as supplemented and amended. The CoSu Project would provide SMUD access to existing renewable resources in the Pacific Northwest and other markets, provide regional voltage support, and assist SMUD in planning for anticipated load growth. In addition, the CoSu Project would improve the network transmission infrastructure and import capability into the Sacramento area and ensures the continued safe and reliable operation of the regional transmission system.

The proposed corridors to be studied and evaluated are within Colusa and Sutter Counties, California. The proposed Project would consist of the following primary components:

1. Northern Corridor Alternative: constructing a new transmission line (approximately 44 miles in length) adjacent to Western's existing 230-kV Olinda-O'Banion and Keswick-O'Banion double circuit transmission lines. The Northern Corridor Alternative would interconnect the existing COTP transmission line system near the existing COTP's Maxwell Series Compensation Substation to Western's CVP transmission system near the existing Western's O'Banion Substation. The new transmission line would require the construction of an additional substation adjacent to the existing Maxwell Series Compensation Substation and an additional substation adjacent to the existing O'Banion Substation.

2. Southern Corridor Alternative: constructing a new transmission line (approximately 27 miles in length) so that it interconnects along the existing COTP transmission line system approximately 8 miles northwest of the community of Arbuckle, California, and proceeds eastwardly towards the existing O'Banion Substation. The Southern Corridor Alternative would also require the construction of an additional substation adjacent to the existing COTP transmission line northwest of Arbuckle and an additional substation adjacent to the existing O'Banion Substation.

3. Additionally, a Segment 1 Alternative also has been identified (approximately 9 miles in length) just west of the existing O'Banion Substation to provide an alternate north-to-south route for the Northern Corridor Alternative. Instead of following Western's existing 230-kV Olinda-O'Banion and Keswick-O'Banion double circuit transmission lines to the O'Banion substation, this segment would extend south, at a location approximately 30 miles from the Maxwell Substation, and then continue due east to connect to the O'Banion substation. Under this segment alternative, the new line would be located further away from the Sutter National Wildlife Refuge.

Western will consider a No Action Alternative in the EIS/EIR. Under the No Action Alternative, for the purpose of establishing a baseline for impact analysis and comparison in the EIS/EIR, Western would not construct the proposed Project and the environmental impacts associated with construction and operation would not occur.

Agency Responsibilities

Western has determined that an EIS is appropriate under DOE NEPA implementing procedures, 10 CFR part 1021.¹ Western would be the lead Federal agency for preparing the EIS, as defined at 40 CFR 1501.5. The proposed Project would include construction of a new single-circuit 500-kV transmission line and associated substations on mostly private land. Western will invite other Federal, State, local, and tribal agencies with jurisdiction by law or special expertise with respect to environmental issues to be cooperating agencies on the EIS, as defined at 40 CFR 1501.6. Such agencies also may make a request to Western to be a cooperating agency by contacting Mr. Montaño at the address listed in the ADDRESSES section. Because the proposed Project may involve action in floodplains or wetlands, this NOI also serves as a notice of proposed floodplain or wetland action, in accordance with DOE regulations for Compliance with Floodplain and Wetlands Environmental Review Requirements at 10 CFR part 1022. The EIS will include a floodplain/wetland assessment and, if required, a floodplain/wetland statement of findings will be issued with the Final EIS or the Western Record of Decision (ROD).

¹ On November 16, 2011, DOE's Acting General Counsel restated the delegation to Western Area Power Administration's Administrator of all the authorities of the General Counsel with respect to environmental impact statements. See “Restatement of Delegations of Environmental Impact Statement Authorities,” November 16, 2011.

Environmental Issues

This notice is to inform agencies and the public of Western's and SMUD's intent to prepare a joint EIS/EIR and solicit comments and suggestions for consideration in the EIS/EIS. To help the public frame its comments, the following list contains potential environmental issues preliminarily identified for analysis in the EIS/EIR:

• Impacts on protected, threatened, endangered, or sensitive species of animals or plants;

• Impacts on migratory birds;

• Introduction of noxious weeds, invasive and non-native species;

• Impacts on recreation and transportation;

• Impacts on land use, wilderness, farmlands, and environmentally-sensitive areas;

• Impacts on cultural or historic resources and tribal values;

• Impacts on human health and safety;

• Impacts on air, soil, and water resources (including air quality and surface water impacts);

• Visual impacts; and

• Socioeconomic impacts and disproportionately high and adverse impacts to minority and low-income populations (i.e., environmental justice).

This list is not intended to be all-inclusive or to imply any predetermination of impacts. Western invites interested parties to suggest specific issues within these general categories, or other issues not included above, to be considered in the EIS/EIR.

Public Participation

The EIS/EIR process includes a public scoping period; public scoping meetings; publication and public review of the Draft EIS/EIR; publication of a Final EIS/EIR; and publication of a ROD.

Western and SMUD will hold four public scoping meetings at the following times and locations:

(1) Tuesday, January 12, 2016, from 4:00 p.m. to 7:00 p.m. at the Colusa Casino Community Room, 3770 California 45, Colusa, CA 95932;

(2) Wednesday, January 13, 2016, from 8:00 a.m. to 11:00 a.m. at the Colusa Casino Community Room, 3770 California 45, Colusa, CA 95932;

(3) Wednesday, January 13, 2016, from 4:00 p.m. to 7:00 p.m. at the Sutter Youth Organization Center, 7740 Butte House Road, Sutter, CA 95982;

(4) Thursday, January 14, 2016, from 8:00 a.m. to 11:00 a.m. at the Sutter Youth Organization Center, 7740 Butte House Road, Sutter, CA 95982.

The meetings will be informal, and attendees will be able to speak directly with Western and SMUD representatives about the proposed Project. Attendees also may provide comments at these meetings. For the most recent information and for announcements, please visit the Project Web site at: www.CoSuLine.com.

At the conclusion of the NEPA process, Western will prepare a ROD. Persons interested in receiving future notices, proposed Project information, copies of the EIS/EIR, and other information on the NEPA review process should contact Mr. Montaño at the address listed in the ADDRESSES section.

The purpose of the scoping meetings is to provide information about the proposed Project, review Project maps, answer questions, and take oral and written comments from interested parties. All meeting locations will be handicapped-accessible. Anyone needing special accommodations should contact Mr. Montaño to make arrangements.

The public will have the opportunity to provide written comments at the public scoping meetings. Written comments may also be sent to Mr. Montaño by email or U.S. Postal Service mail. To help define the scope of the EIS/EIR, comments should be received by Western no later than February 16, 2016.

Dated: November 25, 2015.
Mark A. Gabriel,
Administrator.

[FR Doc. 2015-31902 Filed 12-17-15; 8:45 am]

BILLING CODE 6450-01-P